DEPARTMENT OF TRANSPORTATION

Federal Aviation Administration

14 CFR Part 71

[Docket No. FAA-2004-19478; Airspace Docket No. 04-AWP-10]

Revocation of Class D Airspace; South Lake Tahoe, CA

AGENCY: Federal Aviation Administration (FAA), DOT.

ACTION: Final rule.

SUMMARY: This action revokes the Class D airspace area for the South Lake Tahoe Airport, South Lake Tahoe, California. The FAA is taking this action due to closure of the Airport Traffic Control Tower (ATCT).

EFFECTIVE DATE: 0901 UTC, January 20, 2005.

FOR FURTHER INFORMATION CONTACT: Larry Tonish, Airspace Branch, Western Terminal Operations, Federal Aviation Administration, 15000 Aviation Boulevard, Lawndale, California; telephone (310) 725-6539.

SUPPLEMENTARY INFORMATION:

History

Airport Traffic Control Tower services are no longer available at South Lake Tahoe Airport. Therefore, under Federal regulation, the airport no longer qualifies for Class D airspace. Class D airspace designations are published in paragraph 5000 of FAA Order 7400.9M dated August 30, 2004, and effective September 16, 2004, which is incorporated by reference in 14 CFR 71.1. The Class D airspace designation listed in this document will be removed subsequently in the Order.

The Rule

This amendment to 14 CFR part 71 revokes Class D airspace at South Lake Tahoe, CA. The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of Amendment

In consideration of the foregoing, The Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

71.1 [Amended]

2. The incorporation by reference in 14 CFR 71.1 of the Federal Aviation Administration Order 7400.9M, Airspace Designations and Reporting Points, dated August 30, 2004, and effective September 16, 2004, is amended as follows:

Paragraph 5000 Class D airspace.

* * * * *

AWP CA D South Lake Tahoe, CA [Remove]

South Lake Tahoe Airport, CA

(Lat. 38°53′38″ N, long. 119°59′44″ W)

That airspace extending upward from the surface to and indicating 8,800 feet MSL within a 4.3-mile radius of Lake Tahoe Airport. This Class D airspace area is effective during the specific dates and times established in advance by a Notice to Airmen. The effective data and time will thereafter be continuously published in the Airport/Facility Directory.

* * * * *

Issued in Los Angeles, California, on January 6, 2005.
John Clancy,
Area Director, Western Terminal Operations.

[FR Doc. 05-2801 Filed 2-11-05; 8:45 am]

BILLING CODE 4910-13-M